NATIONAL AERONAUTICS AND SPACE ADMINISTRATION

[Notice: (07-025)]

Notice of Information Collection

AGENCY: National Aeronautics and Space Administration (NASA).

ACTION: Notice of information collection.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: All comments should be addressed to Mr. Walter Kit, National Aeronautics and Space Administration, Washington, DC 20546-0001.

FOR FURTHER INFORMATION CONTACT: Requests for additional information or copies of the information collection instrument(s) and instructions should be directed to Mr. Walter Kit, NASA PRA Officer, NASA Headquarters, 300 E Street, SW., JE000, Washington, DC 20546, (202) 358-1350, Walter.Kit-1@nasa.gov.

SUPPLEMENTARY INFORMATION:

I. Abstract

The NASA-sponsored Classroom of the Future (COTF) will conduct numerous studies on identifying and assessing learning and tracking flow in video. Though the methodology in each study may differ somewhat, the purpose of each collection is similar. Without basic research into assessment of learning in games, NASA Education will have no measurement of how much learning occurs in the games they develop. NASA will use this research to inform its investment in developing educational video games to support increased achievement in science, technology, engineering and mathematics education.

II. Method of Collection

Most of the data collection will be online using Web-based database technologies. Many of the pre- and post-test questions that will be asked in focus groups and face-to-face interviews will have responses compiled on-line to aid research efforts. Almost all the data collected will be acquired through software that tracks user skill and flow in games.

III. Data

Title: Generic Clearance for Studies to Assess Learning and Flow in Video Games.

OMB Number: 2700-XXXX.

Type of Review: Emergency New Collection.

Affected Public: Individuals or households; Business or other for profit; or Not-for-profit institutions.

Number of Respondents: 7764.

Responses per Respondent: 1.

Annual Responses: 2608.

Annual Burden Hours: 3505.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Gary Cox,
Deputy Chief Information Officer (Acting).

[FR Doc. E7-5103 Filed 3-20-07; 8:45 am]

BILLING CODE 7510-13-P